DEPARTMENT OF AGRICULTURE

Office of the Secretary

7 CFR Part 9

[Docket ID: FSA-2020-0004]

Notice of Funding Availability; Coronavirus Food Assistance Program (CFAP) Additional Commodities Request for Information; Correction

AGENCY: Office of the Secretary, USDA.

ACTION: Notice of funding availability; request for comments; correction.

SUMMARY: This document corrects the supplementary information section to the notice of funding availability and additional commodities request for information published in the Federal Register on May 22, 2020, concerning CFAP. This document adds questions to request specific information related to certain specialty crops. This is intended to add clarity. USDA is still requesting comments on additional commodities that are not already identified and on the paperwork reduction act for CFAP activities. The questions added in this correction cover additional commodities and the development of their payment rates as envisioned in the cost analysis for the CFAP rule and are not expected to impact the costs of CFAP.

DATES: We will consider comments that we receive on additional commodities by June 22, 2020.

We will consider comments that we receive on the Paperwork Reduction Act by July 21, 2020.

ADDRESSES: We invite you to submit comments to provide information about additional commodities and comment on the information collection specified in this document. In your comment, specify [Docket ID: FSA-2020-0004], and include the volume, date, and page number of this issue of the Federal Register. You may submit comments by either of the following methods:

• Federal Rulemaking Portal: Go to http://www.regulations.gov and search for Docket ID FSA-2020-0004. Follow the instructions for submitting comments.

• Mail: Director, SND, FSA, US Department of Agriculture, 1400 Independence Avenue SW, Stop 0522, Washington, DC 20250-0522.

Comments will be available for viewing online at http://www.regulations.gov. In addition, comments will be available for public inspection at the above address during business hours from 8 a.m. to 5 p.m., Monday through Friday, except holidays.

FOR FURTHER INFORMATION CONTACT: William L. Beam, telephone (202) 720-3175; email Bill.Beam@usda.gov. Persons with disabilities or who require alternative means for communication should contact the USDA Target Center at (202) 720-2600.

SUPPLEMENTARY INFORMATION:

Correction

In the Federal Register of May 22, 2020, at 85 FR 31062-31065, the Secretary is making the following correction, in the supplementary section. On page 31063, in the third column, add “Specialty Crops” before the heading “Nursery Products” to read as follows:

Specialty Crops

In addition to the questions above applicable to specialty crops, for producers of specialty crops that have been shipped from the farm by April 15, 2020, but subsequently spoiled or are unpaid due to loss of marketing channels, payments will be based on the volume of shipped, spoiled crops or that are unpaid multiplied by a pre-specified payment rate expected to represent 30 percent of the crop's sales value. For producers with specialty crop shipments that have not left the farm or mature crops that were unharvested between January 15, 2020 and April 15, 2020, and which have not been and will not be sold, payments will be based on the volume of unharvested or unshipped crops multiplied by a pre-specified payment rate expected to represent 5.875 percent of the crop's value.

If you are providing information for a specialty crop meeting the above conditions, please specify your response to the questions below:

(1) The quantity and price of the crop(s) you produced that left your farm by April 15, 2020, and subsequently spoiled or are unpaid due to no market, and for which you did not have Federal crop insurance or Noninsured Crop Disaster Assistance Program (NAP) coverage for the loss.

(2) The quantity and price of crop(s) ready for sale that did not leave the farm by April 15, 2020, and that will not be sold due to lack of markets.

The questions in this correction, in addition to the questions in the initial NOFA, cover additional commodities and the development of their payment rates as envisioned in the cost analysis for the CFAP rule and are not expected to impact the costs of CFAP.

Stephen L. Censky,
Vice Chairman, Commodity Credit Corporation, and Deputy Secretary, U.S. Department of Agriculture.

[FR Doc. 2020-12529 Filed 6-10-20; 4:15 pm]

BILLING CODE P